DEPARTMENT OF ENERGY

Federal Energy Regulatory Commission

[Docket No. RP05-278-000]

Guardian Pipeline, L.L.C.; Notice of Proposed Changes in FERC Gas Tariff

April 27, 2005.

Take notice that on April 22, 2005, Guardian Pipeline, L.L.C. (Guardian) tendered for filing to become part of Guardian's FERC Gas Tariff, Original Volume No. 1, the following tariff sheets to become effective June 1, 2005:

Fourth Revised Sheet No. 0 (Title Page)

Sixth Revised Sheet No. 6

Second Revised Sheet No. 80

First Revised Sheet No. 81

Second Revised Sheet No. 82

First Revised Sheet No. 83

Fourth Revised Sheet No. 105

Second Revised Sheet No. 150

Second Revised Sheet No. 153

First Revised Sheet No. 370

Second Revised Sheet No. 371

First Revised Sheet No. 375

Original Sheet No. 376

Sheet Nos. 377-379

Third Revised Sheet No. 380

Third Revised Sheet No. 393

First Revised Sheet No. 394

First Revised Sheet No. 395

Second Revised Sheet No. 396

Guardian states that it is filing revised tariff sheets for the purpose of: (1) Revising Rate Schedule PAL and its associated form of service agreement, (2) relocating the scheduling priority of PAL service from the General Terms and Conditions to Rate Schedule PAL; and (3) making minor housekeeping changes.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2156 Filed 5-3-05; 8:45 am]

BILLING CODE 6717-01-P